SOCIAL SECURITY ADMINISTRATION

[Docket No. SSA-2022-0008]

Privacy Act of 1974; Matching Program

AGENCY: Social Security Administration (SSA).

ACTION: Notice of a new matching program.

SUMMARY: In accordance with the provisions of the Privacy Act, as amended, this notice announces a new matching program with the United States Department of Health and Human Services, the Office of Child Support Enforcement (OCSE). Under this matching program, OCSE will provide SSA with online query access to the National Directory of New Hires (NDNH) for administration of Supplemental Security Income (SSI), Disability Insurance (DI), and Ticket-to-Work and Self-Sufficiency (Ticket) programs, and will provide SSA quarterly wage and unemployment insurance data from the NDNH through a batch match for administration of the SSI program.

DATES: The deadline to submit comments on the proposed matching program is August 4, 2022. The matching program will be applicable on August 6, 2022, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2022-0008 so that we may associate your comments with the correct regulation. CAUTION: You should be careful to include in your comments only information that you wish to make publicly available. We strongly urge you not to include in your comments any personal information, such as Social Security numbers or medical information.

1. Internet: We strongly recommend that you submit your comments via the internet. Please visit the Federal eRulemaking portal at http://www.regulations.gov. Use the Search function to find docket number SSA-2022-0008 and then submit your comments. The system will issue you a tracking number to confirm your submission. You will not be able to view your comment immediately because we must post each submission manually. It may take up to a week for your comments to be viewable.

2. Fax: Fax comments to (410) 966-0869.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at http://www.regulations.gov or in person, during regular business hours, by arranging with the contact person identified below.

FOR FURTHER INFORMATION CONTACT: Interested parties may submit general questions about the matching program to Andrea Huseth, Division Director, Office of Privacy and Disclosure, Office of the General Counsel, Social Security Administration, G-401 WHR, 6401 Security Boulevard, Baltimore, MD 21235-6401, at telephone: (410) 966-5855, or send an email to Melissa.Feldhan@ssa.gov.

SUPPLEMENTARY INFORMATION: None.

Matthew Ramsey,
Executive Director, Office of Privacy and Disclosure, Office of the General Counsel.

PARTICIPATING AGENCIES:

SSA and OCSE.

AUTHORITY FOR CONDUCTING THE MATCHING PROGRAM:

This matching agreement between OCSE and SSA is executed pursuant to the Social Security Act (Act) and the Privacy Act of 1974, as amended. Section 453(j)(4) of the Act provides that OCSE shall provide the Commissioner of Social Security (Commissioner) with all information in the NDNH. 42 U.S.C. 653(j)(4). SSA has authority to use data to determine entitlement and eligibility for, and to conduct, programs it administers pursuant to section 1631(e)(1)(B) and (f) (SSI), section 224(h) (DI), section 1148 (Ticket) of the Act. 42 U.S.C. 1383(e)(1)(B) and (f), 42 U.S.C. 424a(h), and 42 U.S.C. 1320b-19, and section 222(d) (Rehabilitation Services), 42 U.S.C. 422(d), and section 1615(d) and (e), 42 U.S.C. 1382d(d) and (e). Disclosures under this agreement shall be made in accordance with 5 U.S.C. 552a(b)(3), and in compliance with the matching procedures in 5 U.S.C. 552a(o), (p), and (r).

With respect to the SSI program, subsection 1631(f) of the Act (42 U.S.C. 1383(f)) provides that “the head of any federal agency shall provide such information as the Commissioner needs for purposes of determining eligibility for or amount of benefits, or verifying information with respect thereto.”

With respect to the DI program, subsection 224(h) of the Act (42 U.S.C. 424a(h)) provides that “the head of any Federal agency shall provide such information within its possession as the Commissioner may require for purposes of making a timely determination of the amount of the reduction, if any, required by this section in benefits payable under this subchapter, or verifying other information necessary in carrying out the provisions of this section.”

With respect to the Ticket program, subsections 1148(b)(4) and (h) of the Act (42 U.S.C. 1320b-19(b)(4)(h) requires SSA to verify earnings of beneficiaries/recipients to make payments to employment network providers under the Ticket program. With respect to cost-reimbursement payments to State VR agencies for services to beneficiaries outside of the Ticket program, subsections 222(d) and 1615(d) and (e) of the Act (42 U.S.C. 422(d), 1382d(d) and (e)) requires SSA to verify earnings of beneficiaries/recipients to ensure accurate payments.

PURPOSE(S):

This computer matching agreement, hereinafter “agreement,” governs a matching program between OCSE and SSA. The agreement covers the following information exchange operations wherein OCSE will provide SSA with online query access to the NDNH for administration of the SSI, DI, and Ticket programs, and will provide SSA quarterly wage and unemployment insurance data from NDNH through a batch match for administration of the SSI program.

CATEGORIES OF INDIVIDUALS:

The individuals whose information is involved in this matching program are individuals who are applicants or recipients of SSI, DI, and Ticket programs.

CATEGORIES OF RECORDS:

SSA will provide electronically to OCSE the following data elements in the finder file:

• Individual's Social Security number (SSN); and

• Name.

For the Quarterly Batch Match (SSI), OCSE will provide electronically to SSA the following data elements from the NDNH in the quarterly wage file:

• Quarterly wage record identifier

• For employees:

(1) Name (first, middle, last)

(2) SSN

(3) Verification request code

(4) Processed date

(5) Non-verifiable indicator

(6) Wage amount

(7) Reporting period

• For employers of individuals in the quarterly wage file of the NDNH:

(1) Name

(2) Employer identification number

(3) Address(es)

• Transmitter agency code

• Transmitter state code

• State or agency name

OCSE will provide electronically to SSA the following data elements from the NDNH in the unemployment insurance file:

• Unemployment insurance record identifier

• Processed date

• SSN

• Verification request code

• Name (first, middle, last)

• Address

• Unemployment insurance benefit amount

• Reporting period

• Transmitter agency code

• Transmitter state code

• State or agency name

Online Query Access (SSI, DI, and Ticket programs). Data elements on quarterly wage screen:

• Quarterly wage record identifier

• Date report processed

• Name/SSN verified

• For Employees:

(1) SSN

(2) Name (first, middle, last)

(3) Date of hire

• For Employers:

(1) Name

(2) Employer identification number

(3) Employer Federal Information Processing System (FIPS) code (if present)

(4) Address(es)

Data elements on the new hire screen:

• New hire record identifier

• Name/SSN verified

• Date report processed

• For Employees

(1) Name

(2) Employer identification number

(3) Employer FIPS code (if present)

(4) Address(es)

Data elements on the unemployment insurance screen:

• Unemployment insurance record identifier

• Name/SSN verified

• SSN

• Name (first, middle, last)

• Address

• Unemployment insurance benefit amount

• Reporting period

• Payer state

• Date report processed

SYSTEM(S) OF RECORDS:

SSA's SORs are the Supplemental Security Income Record and Special Veterans Benefit (SSR), 60-0103, last fully published at 71 FR 1830 (January 11, 2006), and amended at 72 FR 69723 (December 10, 2007), 83 FR 31250-31251 (July 3, 2018, and at 83 FR 54969 (November 1, 2018); the Completed Determination Record-Continuing Disability Determination file (CDR-CDD), 60-0050, last fully published at 71 FR 1813 (January 11, 2006), amended at 72 FR 69723 (December 10, 2007), and 83 FR 54969 (November 1, 2018), and at 84 FR 17907 (April 26, 2019); the Master Beneficiary Record (MBR), 60-0090, last fully published at 71 FR 1826 (January 11, 2006), amended at 72 FR 69723 (December 10, 2007), 78 FR 40542 (July 5, 2013), 83 FR 31250-31251 (July 3, 2018), and 83 FR 54969 (November 1, 2018); the Electronic Disability (eDIB) Claim File, (60-0320) last fully published at 68 FR 71210 (December 22, 2003), and amended at 72 FR 69723 (December 10, 2007), 83 FR 54969 (November 1, 2018), and 85 FR 34477 (June 4, 2020); the Ticket-to-Work and Self-Sufficiency Program Payment Database, (60-0295) last fully published at 66 FR 17985 (April 4, 2001), and amended at 72 FR 69723 (December 10, 2007), and 83 FR 54969 (November 1, 2018); and the Ticket-to-Work Program Manager (PM) Management Information System, (60-0300) last fully published at 66 FR 32656 (June 15, 2001), and amended at 72 FR 69723 (December 10, 2007), and 83 FR 54969 (November 1, 2018).

OCSE's SOR is the OCSE National Directory of New Hires, System No. 09-80-0381 last fully published at 80 FR 17906 (April 2, 2015) and 83 FR 6591 (February 14, 2018).

[FR Doc. 2022-14231 Filed 7-1-22; 8:45 am]

BILLING CODE 4191-02-P